DEPARTMENT OF HOUSING AND URBAN DEVELOPMENT

[Docket No. FR-4621-N-02]

Community Planning and Development Formula Programs: Assisting Persons With Disabilities—Recipients' Affirmatively Furthering Fair Housing Responsibilities and Involvement of Persons With Disabilities in Planning Actions

AGENCY: Office of the Assistant Secretary for Community Planning and Development, and Office of the Assistant Secretary for Fair Housing and Equal Opportunity, HUD.

ACTION: Notice.

SUMMARY: The purpose of this notice is to reemphasize the responsibility of Community Planning and Development formula grant program recipients to: (1) Affirmatively further fair housing which includes analyzing compliance with the multifamily design and construction requirements of the Fair Housing Act (the Act); and (2) include individuals with disabilities in the citizen participation process for the development of Consolidated Plans and Annual Action Plans.

FOR FURTHER INFORMATION CONTACT: Bryan Greene, Office of Fair Housing and Equal Opportunity, Department of Housing and Urban Development, 451 Seventh Street, SW, Washington, DC 20410; telephone (202) 708-1145 (this is not a toll-free number), or Terry Buss, Office of Community Planning and Development, Department of Housing and Urban Development, 451 Seventh Street, SW, Washington, DC 20410; telephone (202) 708-2504 (this is not a toll-free number). Persons with hearing or speech impairments may access these numbers via TTY by calling the toll-free Federal Information Relay Service at 1-800-877-8339.

SUPPLEMENTARY INFORMATION:

Background

Every three to five years, each State and local government that is a recipient of HUD formula grant funds through the Community Development Block Grant Program, HOME Investment Partnerships Program, Housing Opportunities for Persons With AIDS Program or the Emergency Shelter Grant Program must submit a complete Consolidated Plan that assesses its priority housing and homeless needs, including the needs of persons with disabilities, and establishes a strategic plan for addressing these needs. (In this notice, the term “jurisdictions” (or “jurisdiction”) refers to States and local governments that are recipients of this funding.)

Annually, jurisdictions must submit the Action Plan component of the Consolidated Plan which describes how these funds will be used. When preparing its Consolidated Plan and its Action Plans, the jurisdiction must include the participation of its citizens in accordance with its citizen participation plan. The citizen participation plan must provide for and encourage citizens to participate in the development of the Consolidated Plan, including any substantial amendments to the Consolidated Plan, and preparation of the Annual Performance Report. Jurisdictions are also expected to take whatever actions are appropriate to encourage the participation of all its citizens, including minorities and non-English speaking persons, as well as persons with disabilities.

In its annual submission to HUD, each recipient jurisdiction must submit a certification required by the Community Development Block Grant regulations (24 CFR 570.601(a)(2)) and the Consolidated Plan regulations (24 CFR 91.225(a)(1), 91.325(a)(1) [States] and 91.425(a)(1) [Consortia]) that it will affirmatively further fair housing. The jurisdiction's affirmatively furthering certification means that the jurisdiction will conduct an analysis to identify impediments to fair housing choice within the jurisdiction, take appropriate actions to overcome the effects of any impediments identified through that analysis, and maintain records reflecting the analysis and actions taken. If the jurisdiction is not undertaking these actions, the Department may reject the certification and disapprove the Consolidated Plan.

The analysis of impediments (AI) to fair housing choice includes an assessment of conditions, both public and private, affecting fair housing choice. The amendments to the Act in 1988 made it unlawful to discriminate against persons because of disability, including the failure to make multifamily residential structures built for first occupancy after March 13, 1991 accessible to persons with disabilities. The Act requires that all units in an elevator building with four or more units be accessible to persons with disabilities. In a non-elevator building with four or more units, all ground floor units must be accessible to such persons. These requirements apply whether the building is privately or publicly constructed and owned.

Recommended Actions To Meet These Responsibilities

HUD encourages jurisdictions that are recipients of funds covered by the Consolidated Plan to make outreach efforts to ensure that persons with disabilities are consulted and have an equal opportunity to participate in developing the jurisdiction's analysis of needs and plans for the use of Federal and other resources. HUD staff in the State and Area Community Planning and Development and Fair Housing and Equal Opportunity Offices can be consulted in helping develop outreach efforts and a significant amount of information is found on HUD's homepage on the Internet at www.hud.gov.

During the new five-year Consolidated Plan cycle that begins in Fiscal Year 2001, Consolidated Plan jurisdictions are strongly encouraged to periodically review and update their AIs, as appropriate, to give the same attention to impediments to fair housing choice for persons with disabilities as is provided for other bases of discrimination such as race that have been prohibited by the Act since its inception in 1968. HUD in its review of Annual Action Plan submissions and during on-site reviews, will consider whether jurisdictions are giving appropriate attention in their Action Plans to compliance with the accessibility requirements of the Act by both private and public housing providers.

Jurisdictions are also encouraged to take other actions to advance fair housing choice for persons with disabilities in support of their certification to affirmatively further fair housing. Recent HUD House Appropriations report language would direct HUD, when reviewing Consolidated Plans, to take into consideration a community's adoption of a building code that satisfies the Act's accessibility requirements along with the community's other efforts to remove impediments to fair housing (see H. Rep. 106-674).

With respect to building codes, HUD encourages elected officials and those engaged in housing and community development programs to determine whether the jurisdiction's building code is inconsistent in any respect with the Act's accessibility requirements. HUD's recently completed review of the four model building codes for consistency with the Act can assist with this determination because most local building codes are derived from one or more national model codes. HUD's final report reviewing the model building codes was published in the Federal Register on March 23, 2000 (65 FR 15740).

In its March 23, 2000 final report, HUD identified those areas of the model building codes that were not consistent with the accessibility requirements of the Act, and included recommended language for addressing these variations. Since that time, HUD has been working with the model code organizations and other interested persons in developing proposed code language to address the findings in the Department's final report with respect to the International Building Code 2000.

HUD also encourages jurisdictions to find ways to inform builders and architects as early as possible in the project design phase, but certainly no later than the issuance of a building permit, of the need to comply with the accessibility requirements of the Act.

Dated: December 1, 2000.
Joseph A. D'Agosta,
General Deputy Assistant Secretary for Community Planning and Development.
Eva M. Plaza,
Assistant Secretary for Fair Housing and Equal Opportunity.

[FR Doc. 00-31120 Filed 12-6-00; 8:45 am]

BILLING CODE 4210-29-M